DEPARTMENT OF HEALTH AND HUMAN SERVICES

Office of Inspector General

Program Exclusions: September 2005

AGENCY: Office of Inspector General, HHS.

ACTION: Notice of program exclusions.

During the month of September 2005, the HHS Office of Inspector General imposed exclusions in the cases set forth below. When an exclusion is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject name | Address | Effective date
Program-Related Convictions:
Agopian, Ovsanna | Granada Hills, CA | 10/20/2005
Altidor, Rejeanne | Elmont, NY | 10/20/2005
Andino, Rosario | Miami, FL | 10/20/2005
Arnold, David | Athens, PA | 10/20/2005
Arthur Avenue Pharmacy | Bronx, NY | 10/20/2005
Bagley, Barbara | Los Angeles, CA | 10/20/2005
Barragan, Elian | Bronx, NY | 10/20/2005
Barrett, Nadine | Bronx, NY | 10/20/2005
Blumberg, Gary | Deerfield, FL | 10/20/2005
Brailsford, Philip | Escondido, CA | 10/20/2005
Brown, Roger | Trenton, NJ | 10/20/2005
Burleson, Delpha | Purcell, OK | 10/20/2005
Butts, Frank | Texarkana, TX | 10/20/2005
Cansler, Ronnie | Los Angeles, CA | 10/20/2005
Cardio Diagnostic Technology & Consultants, Inc | Westerville, OH | 10/20/2005
Celestin, Andre | Elmont, NY | 10/20/2005
Central Community Service, Inc | Los Angeles, CA | 10/20/2005
Chaffin, Alisa | Lansing, MI | 10/20/2005
Choi, Ricardo | Miami, FL | 10/20/2005
Cifelli, Charles | The Villages, FL | 10/20/2005
Cifelli, Darren | West Yarmouth, MA | 10/20/2005
Cifelli, Karen | West Yarmouth, MA | 10/20/2005
Clark, Harry | Pensacola, FL | 10/20/2005
Clark, Shirley | Vallejo, CA | 10/20/2005
Collins, Monique | New Orleans, LA | 10/20/2005
Davidson, Lee | Los Angeles, CA | 10/20/2005
Davis, James | Irving, TX | 10/20/2005
Du, Danny | Wasco, CA | 10/20/2005
Estevez, Maria | Coleman, FL | 10/20/2005
Fabian, Misty | Timpson, TX | 10/20/2005
Flanigan, George | Los Angeles, CA | 10/20/2005
Flores, William | Los Angeles, CA | 10/20/2005
Forcella, Albert | Tarpon Springs, FL | 10/20/2005
Foster, Adrienne | Ashtabula, OH | 10/20/2005
Fraser, Shawn | Fort Dix, NJ | 10/20/2005
Gallagher, Joanne | Conyngham, PA | 10/20/2005
Garcia, Delvis | Hialeah, FL | 10/20/2005
Ginart, Rosa | Coleman, FL | 10/20/2005
Gomez, Gladis | Bronx, NY | 10/20/2005
Green, Edward | Sacremento, CA | 10/20/2005
Guess, Robin | Rialto, CA | 10/20/2005
Hames, Charles | Seagoville, TX | 10/20/2005
Harrington, Marcus | East Moline, IL | 10/20/2005
Heritage Nursing Home | Athens, PA | 10/20/2005
Herod, Michael | Oakdale, LA | 10/20/2005
Housely, Elliot | Miami, FL | 10/20/2005
Hutchinson, Tammy | Monroe, NC | 10/20/2005
Idiong, Okon | Southfield, MI | 10/20/2005
Ingram-Barker, Shanel | Columbus, OH | 10/20/2005
Johnson, Theresa | Dayton, OH | 10/20/2005
Jones, Joe | Westerville, OH | 10/20/2005
Kamara, Abibatu | New Orleans, LA | 10/20/2005
Kattouf, Richard | Warren, OH | 10/20/2005
Kern, Sidney | San Antonio, TX | 10/20/2005
Kern, Stephen | Cache, OK | 10/20/2005
Kirkham, Joseph | Texarkana, TX | 10/20/2005
Krasnow, Robert | Edgefield, SC | 10/20/2005
Ladd, Luwinna | Camp Sherman, OR | 10/20/2005
Laury, Pamela | Hamilton, OH | 10/20/2005
Lee-Perez, Shirley | Valley Stream, NY | 10/20/2005
Levesque, Ann | Fresno, CA | 10/20/2005
Marks, Craig | Miami, FL | 10/20/2005
Martin, Ellis | Columbus, OH | 10/20/2005
McLaughlin, Phillip | Benton, AR | 10/20/2005
Mignott, Mark | Miami, FL | 10/20/2005
Miranda, Tammy | Basalt, CO | 10/20/2005
Murphy, James | Texarkana, TX | 10/20/2005
Musch, Karen | Carrollton, TX | 10/20/2005
Oke, Isaac | Bedford, OH | 10/20/2005
Olwar, Julia | Richmond, VA | 10/20/2005
Optimal Services, Inc | The Villages, FL | 10/20/2005
Osborne, Diana | Ada, OK | 10/20/2005
Pearce, Rebecca | Kalamazoo, MI | 10/20/2005
Perrault, Mark | Los Angeles, CA | 10/20/2005
Perry, Tracy | Columbus, OH | 10/20/2005
Psaila, Justin | Nanuet, NY | 10/20/2005
Reece, Henry | Humble, TX | 10/20/2005
Richard, Jessie | Vallejo, CA | 10/20/2005
Rivera, Ivette | Shirley, NY | 10/20/2005
Rosenberg, Jordan | Lompoc, CA | 10/20/2005
Sanchez De Varona, Raul | Miami, FL | 9/28/2005
Schering Sales Corporation | Kenilworth, NJ | 10/20/2005
Self Discovery, Inc | Lanett, AL | 10/20/2005
Shah, Suvarna | Westport, CT | 10/20/2005
Sriram, Krishnaswami | Lake Forest, IL | 10/20/2005
Stilwell, Jill | Hamilton, MO | 10/20/2005
Strasek, Frank | Rocky River, OH | 10/20/2005
Tackett, Sharessa | Byron, MI | 10/20/2005
Tatman, Lisa | Bremen, OH | 10/20/2005
Triana, Nicholas | Miami, FL | 10/20/2005
Veksler, Polina | Staten Island, NY | 10/20/2005
Versteeg, Julie | Salt Lake City, UT | 10/20/2005
Vogt, Tamara | Walker, IA | 10/20/2005
Ward, Iris | Dayton, OH | 10/20/2005
White, Richard | Oakdale, LA | 10/20/2005
Wulfekuhle, Jennifer | Manchester, IA | 10/20/2005
Zagerman Enterprises, Inc | Clawson, MI | 10/20/2005
Felony Conviction for Health Care Fraud:
Boyd, Sherrie | Columbus, OH | 10/20/2005
Brown, Frisella | St Louis, MO | 10/20/2005
Douglas, Juliette | Imperial, MO | 10/20/2005
Fisher, Brenda | Winslow, ME | 10/20/2005
Flounders, Joseph | Villas, NJ | 10/20/2005
Frahmand, Zalmai | Cape Coral, FL | 10/20/2005
France, Kristine | Delaware, OH | 10/20/2005
Gandhi, Hiren | Edison, NJ | 10/20/2005
Gilford, Tywana | Houston, TX | 10/20/2005
Horvath, Allan | Hilliard, OH | 10/20/2005
Jackson, Alice | St Louis, MO | 10/20/2005
Kaploe, Mark | Farmington Hills, MI | 10/20/2005
King, Maxine | Milwaukee, WI | 10/20/2005
Kiruki, Daniel | Lunenburg, ME | 10/20/2005
Maitland, Treaka | Kissimmee, FL | 10/20/2005
Mills, Brenda | Creve Coeur, MO | 10/20/2005
Moore, Stacia | Kalispell, MT | 10/20/2005
Morgan, Deidre | Akron, OH | 10/20/2005
Nureldin, Wayel | Kansas City, KS | 10/20/2005
Paas, Raymond | Forest Hills, NY | 10/20/2005
Paddock, Lisa | Bowdoin, ME | 10/20/2005
Payne, Kimberly | Huntingburg, IN | 10/20/2005
Perez, Eloy | Miami, FL | 10/20/2005
Rosselit, James | Tipp City, OH | 10/20/2005
Stacy, Mitzi | Portland, OR | 10/20/2005
Taylor, Jackilynn | Albany, LA | 10/20/2005
Trego, Anita | Maple Shade, NJ | 10/20/2005
Vann, Mary | Coeur D'Alene, ID | 10/20/2005
Witte, Rebecca | Tullahoma, TN | 10/20/2005
Felony Control Substance Conviction:
Autrey, Kathleen | Evansville, IN | 10/20/2005
Benjamin, Debra | Hurley, WI | 10/20/2005
Davis, Dora | Westminster, CO | 10/20/2005
Deleon, Alfonso | Von Ormy, TX | 10/20/2005
Jones, Diane | Ft Lauderdale, FL | 10/20/2005
Karnabi, Marwan | Brooklyn, NY | 10/20/2005
Lipsh, Jeannette | Walhalla, ND | 10/20/2005
Mindell, Kimberly | Ypsilanti, MI | 10/20/2005
Moore, Clayton | St Louis, MO | 10/20/2005
Phillips, Stacy | Harrisonville, MO | 10/20/2005
Rafle, Philip | Anaheim, CA | 10/20/2005
Serrano, Leann | Creve Coeur, IL | 10/20/2005
Storey, James | Tennessee Colony, TX | 10/20/2005
True, Jennifer | Grass Valley, CA | 10/20/2005
Ward, Lisa | Mentor, OH | 10/20/2005
Williamson, Julie | Jackson, TN | 10/20/2005
Wool, Jeffrey | Joplin, MO | 10/20/2005
Wright, Angel | Parkland, FL | 10/20/2005
Patient Abuse/Neglect Convictions:
Alston, Cheryl | Deer Park, NY | 10/20/2005
Anderton, Eun | Madison, WI | 10/20/2005
Bell, Lesa | Oklahoma City, OK | 10/20/2005
Berkeley, Linda | Chelsea, VT | 10/20/2005
Bushey, Andrea | Enid, OK | 10/20/2005
Cockerham, Alicia | Winnfield, LA | 10/20/2005
Corcoran, Philip | Eagle Point, OR | 10/20/2005
Craig, Kathy | Cabot, AR | 10/20/2005
Dearborn, James | Bangor, ME | 10/20/2005
Edwards, Michael | Sonyea, NY | 10/20/2005
Fisher, Wanda | Southshore, KY | 10/20/2005
Fuller, Richard | Toledo, OH | 10/20/2005
Grimes, Lathell | Ocala, FL | 10/20/2005
Halifax Convalescent Center | Daytona Beach, FL | 10/20/2005
Hall, Colleen | Poway, CA | 10/20/2005
Hepburn, Caiphia | Bronx, NY | 10/20/2005
Holliman, Charmaine | Baton Rouge, LA | 10/20/2005
Jackson, Lalia | Ponca City, OK | 10/20/2005
Jackson, Theresa | Jessup, MD | 10/20/2005
Joondeph, Marc | Covington, WA | 10/20/2005
Maes, Ernest | Canon City, CO | 10/20/2005
McAlister, Shannon | Margate, FL | 10/20/2005
Mitchell, Johnny | Racine, WI | 10/20/2005
Pompey, Selma | Arverne, NY | 10/20/2005
Raulerson, Max | Saint George, GA | 10/20/2005
Robinson, Verna | Oklahoma City, OK | 10/20/2005
Smith, Marilyn | Cincinnati, OH | 10/20/2005
Smith, Ruby | Rush Springs, OK | 10/20/2005
Spaeth, Raenita | Van Wert, OH | 10/20/2005
Taylor, Michelle | Riverhead, NY | 10/20/2005
Valle, Luis | Grand Rapids, MI | 10/20/2005
Van Loo, Robert | Watertown, WI | 10/20/2005
Voeks, Randall | Plymouth, MN | 10/20/2005
Woodley, Madeline | New Orleans, LA | 10/20/2005
Conviction for Health Care Fraud:
Gilmore, Anntinia | Rialto, CA | 10/20/2005
Guthrie, Sara | Kalamazoo, MI | 10/20/2005
Hicks, Louise | San Andreas, CA | 10/20/2005
Hidalgo, Amber | Oklahoma City, OK | 10/20/2005
McWhinney, Susan | Barre, VT | 10/20/2005
Silverstein, Michael | Westport, CT | 10/20/2005
Conviction—Obstruction of an Investigation:
Hames, David | Dallas, TX | 10/20/2005
Controlled Substance Convictions:
Tabor, Diane | Fairfield, OH | 10/20/2005
License Revocation/Suspension/Surrendered:
Agundez, Raul | Harbor City, CA | 10/20/2005
Almeida, Carlos | Timonium, MD | 10/20/2005
Amezcua, Guadalupe | Hawaiian Gardens, CA | 10/20/2005
Amsellem, David | Goldsboro, NC | 10/20/2005
Ashcraft, Cherryanna | Aurora, CO | 10/20/2005
Ayres, Diane | Port St Lucie, FL | 10/20/2005
Balfany, Amy | Phoenix, AZ | 10/20/2005
Barnes, Peggy | Middlesboro, KY | 10/20/2005
Batch, Jeanne | Brownington, VT | 10/20/2005
Baum, Alan | Vernon, NY | 10/20/2005
Bearden, James | Mobile, AL | 10/20/2005
Bischoff, James | Boulder, MT | 10/20/2005
Bolick, Charles | Winter Haven, FL | 10/20/2005
Booth, Ryan | Colorado Springs, CO | 10/20/2005
Buchbinder, Jay | Merrick, NY | 10/20/2005
Burrow, Roy | Elizabethton, TN | 10/20/2005
Bushor, Sherry | Crawfordsville, IN | 10/20/2005
Caswell, Jeanne | Port Orange, FL | 10/20/2005
Catania, Linda | Maynard, MA | 10/20/2005
Chaix, Michael | Pineville, LA | 10/20/2005
Chaleki, Lisa-Jayne | Pittsfield, MA | 10/20/2005
Childress, Kelley | Ashland, MA | 10/20/2005
Choate, Donald | Lufkin, TX | 10/20/2005
Cobbs, Jerdonald | Escondido, CA | 10/20/2005
Coles, Philip | Flagstaff, AZ | 10/20/2005
Comptom, Cynthia | Memphis, TN | 10/20/2005
Corbett, David | Sturgis, KY | 10/20/2005
Craig, Jaclyn | Fredonia, NY | 10/20/2005
Crawford, Diana | Mobile, AL | 10/20/2005
Cresap, Kristina | Grenada, MS | 10/20/2005
Crutchley, Valerie | Melfa, VA | 10/20/2005
Culler, Frederick | Nevada, MO | 10/20/2005
Curtis, Kim | Provo, UT | 10/20/2005
D'Orlando, Robert | Revere, MA | 10/20/2005
Degryse, Doreen | Port Charlotte, FL | 10/20/2005
Dephillipo, Deborah | Aldan, PA | 10/20/2005
Dexter, Sarah | Portland, OR | 10/20/2005
Dickey, Douglas | Victoria, TX | 10/20/2005
Difiore, Stacy | Portland, ME | 10/20/2005
Dorsen, Peter | Minneapolis, MN | 10/20/2005
Dufur, Amy | Aurora, IL | 10/20/2005
Duke, Mary | Potomac, MD | 10/20/2005
Duncan, Steven | Stockton, CA | 10/20/2005
Elder, Vicki | Moreno Valley, CA | 10/20/2005
Elfring, Katie | Ellisville, MS | 10/20/2005
Fanin, Cecile | Greenbrier, AR | 10/20/2005
Ferguson, Daniel | College Place, WA | 10/20/2005
Foley, Frank | Pittsfield, MA | 10/20/2005
Ford, Barbie | Pompano Beach, FL | 10/20/2005
Forster, Mark | Carefree, AZ | 10/20/2005
Franks, Daryl | Union, KY | 10/20/2005
Freeman, David | Lynchburg, VA | 10/20/2005
Gamal-Eldin, Carolyn | Augusta, ME | 10/20/2005
Garcia, Christina | Tucson, AZ | 10/20/2005
Garry, Alex | Jamestown, CA | 10/20/2005
Geraci, Theresa | Wappingers Falls, NY | 10/20/2005
Gibbs, Lori | Winslow, ME | 10/20/2005
Giza, Tammy | Coeburn, VA | 10/20/2005
Glorius, David | Ft McCoy, FL | 10/20/2005
Gluzman, Alexander | North Hills, CA | 10/20/2005
Grube, Stephanie | Apple Valley, CA | 10/20/2005
Guardipee, Stephen | Roanoke, VA | 10/20/2005
Hannon, Ronald | Columbia Falls, MT | 10/20/2005
Haskins, Megan | Rutland, VT | 10/20/2005
Headrick, Diane | Greensburg, PA | 10/20/2005
Hendry, Troy | Vossburg, MS | 10/20/2005
Hoda, Syed | Canton, MI | 10/20/2005
Hoffman, Dawn | Rochester, NY | 10/20/2005
Hogan, Jeanne | South Boston, MA | 10/20/2005
Holbrook, William | Harrisville, UT | 10/20/2005
Holmes, Starle | Inglewood, CA | 10/20/2005
Hoppes, Mildred | Waterloo, IA | 10/20/2005
Horrell, Crystal | North Hollywood, CA | 10/20/2005
Hubler, Deborah | Stoughton, MA | 10/20/2005
Huntington, William | Bowdoinham, ME | 10/20/2005
Jacks, Brian | Danville, VA | 10/20/2005
Johnson, Deborah | Pine Bluff, AR | 10/20/2005
Jones, Sarah | Danville, VA | 10/20/2005
Jorgensen, Eric | St Joseph, MO | 10/20/2005
Juckett, Rebecca | Granville, NY | 10/20/2005
Juhl, Virginia | Sierra Vista, AZ | 10/20/2005
Katzman, Jerry | Sackett Harbor, NY | 10/20/2005
Kelley, Patricia | Cambridge, OH | 10/20/2005
Khan, Shahnaz | Hayward, CA | 10/20/2005
King, Michael | Manteca, CA | 10/20/2005
Klosterman, Jessica | Sarasota, FL | 10/20/2005
Klyszeiko, Maribeth | Essex Junction, VT | 10/20/2005
Krueger, Kerry | Blue Jay, CA | 10/20/2005
LaBelle, Jessica | Concord, NH | 10/20/2005
Ledbetter, Randall | Belleville, IL | 10/20/2005
Lemons, Warren | Houston, TX | 10/20/2005
Leonard, Vicki | Clinton, IA | 10/20/2005
Leroux, Jeffrey | Richmond, CA | 10/20/2005
Livingston, Deitra | Hopkinsville, KY | 10/20/2005
Locke, Charles | Governeur, NJ | 10/20/2005
Maddox, James | Wetumpka, AL | 10/20/2005
Manikis, Charlene | Escondido, CA | 10/20/2005
Martin-Szymanski, Misty | Ft Smith, AR | 10/20/2005
Masters, John | Loxahatchee, FL | 10/20/2005
McEvilly-McDonald, Patricia | Trabuco Canyon, CA | 10/20/2005
McGrath, Helen | Kendall Park, NJ | 10/20/2005
McKay, Gertrude | Ft Lauderdale, FL | 10/20/2005
Mead, Janice | Casa Grande, AZ | 10/20/2005
Merrell, Hassie | Monteagle, TN | 10/20/2005
Merrill, David | Northglenn, CO | 10/20/2005
Metzger, Carl | Cape Elizabeth, ME | 10/20/2005
Miller, Alvin | Westville, IN | 10/20/2005
Miller, Gari | Calhoun, IL | 10/20/2005
Miller, Janet | Sequim, WA | 10/20/2005
Millette, Michael | Crystal Lake, IL | 10/20/2005
Mitchell, Charlene | Midvale, UT | 10/20/2005
Mulford, Robert | Grand Jct, CO | 10/20/2005
Mullins, Donna | Dante, VA | 10/20/2005
Munn, Karl | Kalamazoo, MI | 10/20/2005
Munson, Michelle | Mohnton, PA | 10/20/2005
Muwonge, Lamech | Phoenix, AZ | 10/20/2005
Myerchin, Leigh | Springfield, MO | 10/20/2005
Nave, Sherry | Long Beach, CA | 10/20/2005
Neunhoffer, Steven | Canyon Country, CA | 10/20/2005
Nubel, Aviva | Bridgewater, NJ | 10/20/2005
Nunes, Nikki | Fall River, MA | 10/20/2005
Overmyer, Patti | Vernon, TX | 10/20/2005
Parr, Connie | Auburn, IN | 10/20/2005
Perez, Maria | Royal Palm Beach, FL | 10/20/2005
Pope, Rosemary | Dallas, TX | 10/20/2005
Pratt, Jay | Bingham, ME | 10/20/2005
Prechel, Melanie | Columbus, OH | 10/20/2005
Preston, Ashley | Wolcott, VT | 10/20/2005
Provost, Tammy | Waterbury, VT | 10/20/2005
Pruitt, Julianne | Council Bluffs, IA | 10/20/2005
Pulley, Matthew | Brewer, ME | 10/20/2005
Quach, Larry | Salt Lake City, UT | 10/20/2005
Rainey, Debra | Hanna, WY | 10/20/2005
Raykin, Shawna | Denver, CO | 10/20/2005
Redenius, Myron | Billings, MT | 10/20/2005
Regan, William | Yuma, AZ | 10/20/2005
Rhodes, Hershel | Nacogdoches, TX | 10/20/2005
Riem, David | Hernando, MS | 10/20/2005
Robertson, Angela | Manchester, NH | 10/20/2005
Robinson, Kelli | Meridian, MS | 10/20/2005
Rodriguez, Helen | Chula Vista, CA | 10/20/2005
Rose, Timothy | Wallingford, KY | 10/20/2005
Rosenbaum, Nancy | Phoenix, AZ | 10/20/2005
Ross, Melinda | Grundy, VA | 10/20/2005
Ross, Willie | Oakland, CA | 10/20/2005
Royer, Rita | Irasburg, VT | 10/20/2005
Russell, Scott | Cedaredge, CO | 10/20/2005
Sanders, Audrey | Bessemer, AL | 10/20/2005
Schnebly, Anna | Lafayette, CO | 10/20/2005
Schoelman, Helen | Missouri City, TX | 10/20/2005
Scinta, Amy | McLean, VA | 10/20/2005
Scotney, Sylvia | Tempe, AZ | 10/20/2005
Seaberry, Lorraine | Cottonport, LA | 10/20/2005
Sharp, Deborah | West Paducah, KY | 10/20/2005
Sheldon, Patrick | South Bend, IN | 10/20/2005
Short, Carrie | Whiteville, NC | 10/20/2005
Simon, Joseph | Zephyr Cove, NV | 10/20/2005
Simonetti, Dino | Salem, MA | 10/20/2005
Skatrud, Cynthia | Greenwood, IN | 10/20/2005
Snapp, Malissa | Mohawk, TN | 10/20/2005
Stanton, Jamie | Rawlins, WY | 10/20/2005
Staples, Kimberly | Forestville, CA | 10/20/2005
Stepp, Mervin | Airway Heights, WA | 10/20/2005
Stevens, Ronald | Stow, OH | 10/20/2005
Sullivan, Jessica | Hurley, VA | 10/20/2005
Sullivan, Soundra | Saint Augustine, FL | 10/20/2005
Szarszewski, Mark | Edison, NJ | 10/20/2005
Taylor, Teresa | Colorado Springs, CO | 10/20/2005
Taylor, Wanda | Amory, MS | 10/20/2005
Thompson, Nancy | Kalispell, MT | 10/20/2005
Thompson, Tracy | Mesa, AZ | 10/20/2005
Tompkins, Lauren | Baltimore, MD | 10/20/2005
Trumbo, Sally | Louisville, KY | 10/20/2005
Tvedt, Jacqueline | Montour, IA | 10/20/2005
Valestin, Terry | Cape Coral, FL | 10/20/2005
Vaughan, Milton | Henderson, NV | 10/20/2005
Veliz, Frank | Kincheloe, MI | 10/20/2005
Vick, Mary | Yuma, CO | 10/20/2005
Waller, Shirley | Brandon, MS | 10/20/2005
Wang, Hugh | Concord, CA | 10/20/2005
Watson, Tracey | Newark, NJ | 10/20/2005
Weikle, Timothy | Roanoke, VA | 10/20/2005
Wethington, Kelly | Lutz, FL | 10/20/2005
White, Windy | Hayden, AL | 10/20/2005
Wilcox, John | Puyallup, WA | 10/20/2005
Wilson, Brandon | Wilton, NY | 10/20/2005
Witt, Wendy | Bedford, VA | 10/20/2005
Woolley, Robert | St Paul, MN | 10/20/2005
Wright, Gidget | Sunbright, TN | 10/20/2005
Wright, Judie | Tipiersville, MS | 10/20/2005
Wright, Martha | Hidalgo, TX | 10/20/2005
Ybarra, Martin | Mesa, AZ | 10/20/2005
Young, Richard | Wickenburg, AZ | 10/20/2005
Zoll, Tara | Crestview, FL | 10/20/2005
Zumbrunnen, Shirley | Monticello, IA | 10/20/2005
Fraud/Kickbacks/Prohibited Acts/Settlement Agreements:
Dick, Darnell | Yakima, WA | 6/15/2005
Mack, Lynn | Chardon, OH | 4/21/2005
Naples, James | Texarkana, TX | 12/22/2004
Wiggins, Kenneth | Hartford, KY | 6/15/2005
Owned/Controlled by Convicted Entities:
Community Health Clinic, Inc | Isola, MS | 10/20/2005
Helping Hands Transportation, Inc | Jacksonville, OH | 10/20/2005
Rent-A-Nurse | New Iberia, LA | 10/20/2005
W Marion Medical Center, Inc | Ocala, FL | 10/20/2005
Default on Heal Loan:
Antelman, Goldie | Philadelphia, PA | 10/20/2005
Cox, Michael | El Sobrante, CA | 10/20/2005
Green, Gregory | Florissant, MO | 9/19/2005
Howard-Love, Kimberly | Springfield, OH | 10/20/2005
Marder, Charles | Plano, TX | 10/20/2005
Mikolinnas, Thomas | Worcester, MA | 9/22/2005
Slusher, Kevin | Shreveport, LA | 10/20/2005
Zimmerman, Seth | Port Washington, NY | 10/20/2005

Dated: October 6, 2005.
Katherine B. Petrowski,
Director, Exclusions Staff, Office of Inspector General.

[FR Doc. 05-20963 Filed 10-19-05; 8:45 am]

BILLING CODE 4152-01-P